DEPARTMENT OF COMMERCE

National Oceanic and Atmospheric Administration

Transition of NOAA's Shoreline Compilation Scale

AGENCY: Office of National Geodetic Survey (NGS), National Ocean Service (NOS), National Oceanic and Atmospheric Administration (NOAA), Department of Commerce.

ACTION: Informational notice.

SUMMARY: The Office of National Geodetic Survey has adjusted the Nation's Shoreline Compilation Scale for more efficient application to the primary product that it supports, NOAA Nautical Charts. The current requirement is “For any portion of a project area, the Compilation Scale within that portion is equal to two times the scale of the largest scale chart or chart inset that includes that portion. However, the Compilation Scale will be neither smaller than 1:20,000 nor larger than 1:2,500.” The new requirement is “For any portion of a project area, the Compilation Scale within that portion will be equal to the scale of the largest scale NOAA Nautical Chart or chart inset. However, the Compilation Scale will be neither smaller than 1:24,000 nor larger than 1:2,500.”

DATES: Effective Date: March 5, 2014.

ADDRESSES: Written comments should be sent to the attention of Michael L. Aslaksen, Jr., Chief, Remote Sensing Division, Office of National Geodetic Survey, National Ocean Service, 1315 East West Highway, Silver Spring, Maryland 20910, fax 301-713-4572 or via email: mike.aslaksen@noaa.gov.

FOR FURTHER INFORMATION CONTACT: Mr. Michael L. Aslaksen Jr., N/NGS3, 1315 East West Highway, Silver Spring, Maryland 20910; Telephone: 301-713-2663 ext. 160, Fax: 301-713-4572; email: mike.aslaksen@noaa.gov.

SUPPLEMENTARY INFORMATION: Under 33 U.S.C. 883a, et seq., NOAA's National Ocean Service (NOS) is responsible for providing nautical charts and related information for safe navigation. NOS collects and compiles hydrographic, tidal and current, geodetic, and a variety of other data. NGS collects data for managing our Nation's coastal resources and to define the National Shoreline, which provides critical baseline data for updating nautical charts and defining our Nation's territorial limits, including the Exclusive Economic Zone. Shoreline Compilation Scale changes supersede the following which is listed in the Scope of Work for Shoreline Mapping (SOW, Version 14A Section 4.5 Compilation Scale) under NOAA's Coastal Mapping Program:

4.5. Compilation Scale—The Compilation Scale is used to determine the general level of detail and feature generalization that the compiler should use in a particular area of a project. Many features have guidelines for their collection based on a particular map distance at the Compilation Scale. This Compilation Scale will normally be defined in the Project Instructions, but generally, the following rule is used: For any portion of a project area, the Compilation Scale within that portion is equal to two times the scale of the largest scale chart or chart inset that includes that portion. However, the Compilation Scale will be neither smaller than 1:20,000 nor larger than 1:2,500.

Dated: February 7, 2014.
Juliana P. Blackwell,
Director, Office of National Geodetic Survey, National Ocean Service, National Oceanic and Atmospheric Administration.

[FR Doc. 2014-03275 Filed 2-13-14; 8:45 am]

BILLING CODE P